OFFICE OF MANAGEMENT AND BUDGET

Request for Comments on Improving Cybersecurity Protections in Federal Acquisitions

AGENCY: Office of Management and Budget (OMB).

ACTION: Notice.

SUMMARY: OMB's Office of E-Government & Information Technology (E-Gov) is seeking public comment on draft guidance to improve cybersecurity protections in Federal acquisitions.

DATES: Interested parties may submit comments and feedback by the deadline listed on policy.cio.gov.

ADDRESSES: Interested parties should provide comments at the following link: policy.cio.gov.

FOR FURTHER INFORMATION CONTACT: Mr. Joseph Stuntz, OMB at egov@omb.eop.gov.

SUPPLEMENTARY INFORMATION: The threats facing Federal information systems have dramatically increased as agencies provide more services online, digitally store data, and rely on contractors for a variety of these information technology services. The Federal Information Security Modernization Act of 2014 (FISMA),¹ Office of Management and Budget (OMB) guidance, and National Institute of Standards and Technology (NIST) standards provide agencies with a framework for securing their information and information systems regardless of where this information is stored. This information can be on government information systems, contractor information systems, and contractor information systems that are part of an Information Technology (IT) service operated on behalf of the government. The increase in threats facing Federal information systems demand that certain issues regarding security of information on these systems is clearly, effectively, and consistently addressed in Federal contracts.

¹ https://www.congress.gov/bill/113th-congress/senate-bill/2521/text.

Tony Scott,
Administrator, Office of E-Government and Information Technology.

[FR Doc. 2015-18747 Filed 7-29-15; 8:45 am]

BILLING CODE P